DEPARTMENT OF JUSTICE

Solid Waste Disposal Act, as Amended by the Resource Conservation and Recovery Act (RCRA) Sections 3004 and 3005 of RCRA, 42 U.S.C. 6924 and 6925

In accordance with Departmental policy, 28 CFR 50.7, notice is hereby given that on January 9, 2006, a proposed Consent Decree in United States and State of Alabama v. Northrop Grumman Systems Corporation, Civil Action No. CV-06-B-0060 NE was lodged with the United States District Court for the Northern District of Alabama.

In this action the United States and State of Alabama allege that Northrop Grumman Systems Corporation (hereafter NGC or defendant) is liable under the Solid Waste Disposal Act, as amended by the Resource Conservation and Recovery Act (RCRA) and the Alabama Hazardous Wastes Management and Minimization Act (“AHWMMA”), Code of Alabama (1975), §§ 22-3-1, et seq. for penalties and injunctive relief in connection with the NGC BAT facility near Huntsville, Alabama at Redstone Arsenal, and the NGC Longbow facility in Huntsville.

This consent decree represents a settlement between the United States, State of Alabama and NGC. The consent decree requires NGC to: (1) Pay a penalty of $83,049.50, to be split evenly between the State of Alabama and the United States, and (2) submit certifications within thirty days of entry of the Consent Decree that it is in compliance with the provisions of RCRA and State law it was alleged to have violated. The Department of Justice will receive for a period of thirty (30) days from the date of this publication comments relating to the proposed Consent Decree. Comments should be addressed to the Assistant Attorney General for the Environment and Natural Resources Division, U.S. Department of Justice, P.O. box 7611, Washington, DC 20044, and should refer to United States and State of Alabama v. Northrop Grumman Systems Corporation, D.J. Ref. 90-7-1-08303.

Commenters may request an opportunity for a public meeting in the affected area, in accordance with Section 7003(d) of the Resource Conservation and Recovery Act (“RCRA”), 42 U.S.C. 6973(d).

The proposed Consent Decree may be examined at the Office of the United States Attorney, Northern District of Alabama, 1801 4th Avenue North, Birmingham, Alabama 35203, and at Region 4, Office of the Environmental Protection Agency, Atlanta Federal Center, 61 Forsyth Street, SW., Atlanta, Georgia 30303. During the public comment period, the Consent Decree may also be examined on the following Department of Justice Web site: http://www.usdoj.gov/enrd/open.html. A copy of the consent decree may also be obtained by mail from the Consent Decree Library, P.O. Box 7611, U.S. Department of Justice, Washington, DC 20044-7611, or by faxing or e-mailing a request to Tonia Fleetwood (tonia.fleetwood@usdoj.gov), fax. No. (202) 514-0097, phone confirmation number (202) 514-1547. In requesting a copy, please enclose a check in the amount of $4.75 (25 cents per page reproduction cost) payable to the U.S. Treasury.

Ellen Mahan,
Assistant Section Chief, Environment and Natural Resources Division.

[FR Doc. 06-711 Filed 1-25-06; 8:45 am]

BILLING CODE 4410-15-M